DEPARTMENT OF THE INTERIOR

Fish and Wildlife Service

Migratory Bird Permits; Draft Environmental Impact Statement on Double-Crested Cormorant Management

AGENCY: U.S. Fish and Wildlife Service, Interior.

ACTION: Notice of meetings.

SUMMARY: The U.S. Fish and Wildlife Service (Service or we) announces the rescheduling of two of the public meetings associated with the comment period for a Draft Environmental Impact Statement (DEIS) on double-crested cormorant management. The DEIS has been prepared under the authority of the National Environmental Policy Act and the Migratory Bird Treaty Act and analyzes the potential environmental impacts of several management alternatives to address conflicts associated with double-crested cormorants. This notice identifies the locations, dates, and times of public meetings and identifies the Service official to whom comments may be directed.

DATES: Written comments regarding the DEIS should be submitted by February 28, 2002, to the address below. Dates and times for ten public meetings are listed in the table under SUPPLEMENTARY INFORMATION.

ADDRESSES: Requests for copies of the DEIS should be mailed to Chief, Division of Migratory Bird Management, U.S. Fish and Wildlife Service, 4401 N. Fairfax Dr., Room 634, Arlington, VA 22203. Written comments on the DEIS can be sent by the following two methods:

(1) By mail to the above address; or

(2) by email to: cormorant_eis@fws.gov.

Please include your name and mailing address in all comments submitted; anonymous comments will not be considered. The public meetings will be held at the locations listed in the table under SUPPLEMENTARY INFORMATION.

FOR FURTHER INFORMATION CONTACT: Jon Andrew, Division of Migratory Bird Management, (703) 358-1714.

SUPPLEMENTARY INFORMATION: On December 19, 2001, we published a notice of meetings in the Federal Register announcing ten public meetings associated with the comment period for a DEIS on double-crested cormorant management. Because of a conflict with the previously-scheduled meeting dates and the World Aquaculture Association annual meeting, we are rescheduling the Little Rock, Arkansas, and Jackson, Mississippi, meetings. These are listed in the table below.

Date | City | Location | Time
January 7, 2002 | Green Bay, Wisconsin | Ramada Plaza Hotel 2750 Ramada Way | 7:00 PM
January 8, 2002 | Mackinaw City, Michigan | Hamilton Inn Select 701 S. Huron Avenue | 7:00 PM
January 16, 2002 | Washington, DC | Main Interior Building Auditorium 1849 C Street, NW | 10:00 AM
February 4, 2001 | Athens, Texas | Texas Freshwater Fisheries Center 5550 Flat Creek Road (Farm Road 2495) | 7:00 PM
February 5, 2002 | Jackson, Mississippi | Clarion Hotel and Convention Center 400 Greymont Avenue | 6:00 PM
February 6, 2002 | Little Rock, Arkansas | University of Arkansas Division of Agriculture Cooperative Extension Service 2301 S. University Avenue | 6:00 PM
February 11, 2002 | South Burlington, Vermont | Clarion Hotel 1117 Williston Road | 7:00 PM
February 12, 2002 | Watertown, New York | Dulles State Office Building 317 Washington Street | 7:00 PM
February 13, 2002 | Syracuse, New York | Sheraton University Hotel 801 University Avenue | 7:00 PM
February 19, 2002 | Portland, Oregon | Doubletree Hotel—Lloyd Center 1000 NE Multnomah | 7:00 PM

Dated: December 26, 2001.
Marshall P. Jones, Jr.,
Acting Director, U.S. Fish & Wildlife Service.

[FR Doc. 02-531 Filed 1-8-02; 8:45 am]

BILLING CODE 4310-55-P